DEPARTMENT OF TRANSPORTATION

Research and Special Programs Administration

Office of Hazardous Materials Safety; Notice of Applications for Modification of Exemption

AGENCY: Research and Special Programs Administration of Exemption, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before December 11, 2003.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with Part 107 of the Federal hazardous materials transportation law (49 U.S.C. 5117(B); 49 CFR 1.53B(b)).

Issued in Washington, DC, on November 20, 2003.
R. Ryan Posten,
Exemptions Program Officer, Office of Hazardous Materials, Exemptions and Approvals.

Application No. | Docket No. | Applicant | Modification of exemption
7073-M |  | Ethyl Corporation, Richmond, VA (See Footnote 1) | 7073
8650-M |  | Ethyl Corporation, Richmond, VA (See Footnote 2) | 8650
9149-M |  | Ethyl Corporation, Richmond, VA (See Footnote 3) | 9149
9548-M |  | Ethyl Corporation, Richmond, VA (See Footnote 4) | 9548
10798-M |  | Albemare Corporation, Baton Rouge, LA (See Footnote 5) | 10798
11993-M | RSPA-97-3100 | Key Safety Systems, Inc., Lakeland, FL (See Footnote 6) | 11993
12124-M | RSPA-98-4309 | Albemarle Corporation, Baton Rouge, LA (See Footnote 7) | 12124
12706-M | RSPA-01-9731 | Raufoss Composites AS, Raufoss, NO (See Footnote 8) | 12706
13135-M | RSPA-02-13521 | Space Systems/LORAL Palo Alto, CA (See Footnote 9) | 13135
¹ To modify the exemption to authorize an ultrasonic thickness test/visual inspection in place of the periodic internal inspection of the non-DOT specification portable tanks.
² To modify the exemption to authorize an ultrasonic thickness test/visual inspection in place of the periodic internal inspection of the non-DOT specification portable tanks.
³ To modify the exemption to authorize an ultrasonic thickness test/visual inspection in place of the periodic internal inspection of the non-DOT specification portable tanks.
⁴ To modify the exemption to authorize an ultrasonic thickness test/visual inspection in place of the periodic internal inspection of the non-DOT specification portable tanks.
⁵ To modify the exemption to authorize the transportation of an additional Class 3 material in DOT Specification tank cars allowed to remain standing with unloading connections attached.
⁶ To modify the exemption to authorize additional marking, welding and brazing requirements of the non-DOT specification cylinders for use as components of auto vehicle safety systems and an increased service pressure from 6,000 psig to 9,000 psig.
⁷ To modify the exemption to authorize the transportation of an additional Division 4.3 material in non-DOT specification stainless steel portable tanks.
⁸ To modify the exemption to authorize the use of tapered threads and update design sizes, drawings, cycle testing of the non-DOT specification fully-wrapped fiberglass composite cylinders with thermoplastic liners.
⁹ To modify the exemption to authorize an increased tank pressure from 275 psig to 2,000 psig for the satellite assembly containing a non-DOT specification pressure vessel.

[FR Doc. 03-29459 Filed 11-25-03; 8:45 am]

BILLING CODE 4910-60-M